FEDERAL DEPOSIT INSURANCE CORPORATION

[OMB No. 3064-0117; -0145; and -0161]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the request to renew the existing information collections described below (OMB Control No. 3064-0117; -0145; and -0161). The notices of proposed renewal for these information collections were previously published in the Federal Register on March 4, 2025, allowing for a 60-day comment period.

DATES: Comments must be submitted on or before May 21, 2025.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7 a.m. and 5 p.m.

Written comments and recommendations for the proposed information collection should be sent within 30 days of publication of this notice to www.reginfo.gov/public/do/PRAMain. Find these particular information collections by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Mutual-to-Stock Conversion of State Savings Banks.

OMB Number: 3064-0117.

Form Number: None.

Affected Public: Insured State savings associations.

Burden Estimate:

Summary of Estimated Annual Burden
[OMB No. 3064-0117]
Information collection (IC) (obligation to respond) | Type of burden (frequency of response) | Number of respondents | Number of responses per respondent | Time per response (HH:MM) | Annual burden (hours)
1. Application or Notice to Engage in Certain Activities (Mandatory) | Reporting (On Occasion) | 5 | 1 | 250:00 | 1,250
Total Annual Burden (Hours) |  |  |  |  | 1,250
Source: FDIC.

General Description of Collection: State savings associations must file a notice of intent to convert to stock form and provide the FDIC with copies of documents filed with State and Federal banking and/or securities regulators in connection with any proposed mutual-to-stock conversion. There is no change in the method or substance of the collection. The estimated burden remains unchanged from 2022.

2. Title: Notice Regarding Unauthorized Access to Customer Information.

OMB Number: 3064-0145.

Form Number: None.

Affected Public: Insured State nonmember banks.

Burden Estimate:

Summary of Estimated Annual Burden
[OMB No. 3064-0145]
Information collection (IC) (obligation to respond) | Type of burden (frequency of response) | Number of respondents | Number of responses per respondent | Time per response (HH:MM) | Annual burden (hours)
1. Develop Policies and Procedures for Response Program, 12 CFR Part 364, App. B, § III (Mandatory) | Recordkeeping (On Occasion) | 9 | 1 | 24:00 | 216
2. Notice Regarding Unauthorized Access to Customer Information, 12 CFR Part 364, App. B, § III(C)(1)(g) (Mandatory) | Disclosure(On Occasion) | 350 | 1 | 36:00 | 12,600
3. Incident Notification to Primary Federal Regulator, 12 CFR Part 364, App. B, § III(C)(1)(g) (Mandatory) | Reporting (On Occasion) | 350 | 1 | 01:00 | 350
Total Annual Burden (Hours) |  |  |  |  | 13,166
Source: FDIC.

General Description of Collection: The Interagency Guidance on Response Programs for Unauthorized Access to Customer Information and Customer Notice describes the Federal banking agencies' expectations regarding a response program, including customer notification procedures, that a financial institution should develop and apply under the circumstances described in the Guidance to address unauthorized access to or use of customer information that could result in substantial harm or inconvenience to a customer. The Guidance advises financial institutions when and how they might (1) develop notices to customers; (2) in certain circumstances defined in the Guidance, determine which customers should receive the notices; and (3) send the notices to customers. There is no change in the methodology or substance of this information collection. The increase in total estimated annual burden from 11,580 hours in 2022 to 13,166 hours currently is due to an increase in the estimated number of respondents and more fine-grained estimation of the types of information burden associated with the collection.

3. Title: Furnisher Information Accuracy and Integrity (FACTA 312).

OMB Number: 3064-0161.

Form Number: None.

Affected Public: State nonmember banks.

Burden Estimate:

Summary of Estimated Annual Burden
[OMB No. 3064-0161]
Information collection (IC) (obligation to respond) | Type of burden (frequency of response) | Number of respondents | Number of responses per respondent | Average time per response (HH:MM) | Annual burden (hours)
1. Procedures to Enhance the Accuracy and Integrity of Information Furnished to Consumer Reporting Agencies under Section 312 of the Fair and Accurate Credit Transactions Act of 2003, 12 CFR Part 1022, Subpart E (Mandatory) | Recordkeeping (Annual) | 2,820 | 1 | 40:00 | 112,800
2. Distribution of Notices in Response to Direct Disputes, 12 CFR Part 1022, Subpart E (Mandatory) | Third Party Disclosure (On Occasion) | 2,820 | 98 | 00:14 | 64,484
Total Annual Burden (Hours) |  |  |  |  | 177,284
Source: FDIC.

General Description of Collection: Sec. 312 of the Fair and Accurate Credit Transaction Act of 2003 (FACT Act) requires the FDIC to issue guidelines for furnishers regarding the accuracy and integrity of the information about consumers furnished to consumer reporting agencies; prescribe regulations requiring furnishers to establish reasonable policies/procedures to implement the guidelines; and issue regulations identifying the circumstances where a furnisher must reinvestigate a dispute about the accuracy of information in a consumer report based on a direct request from a consumer. There is no change in the method or substance of the collection. The overall increase in burden hours is the result of economic fluctuation. In particular, the number of responses per respondent has increased while the time per response has remained the same.

Request for Comment

Comments are invited on (a) whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC on April 15, 2025.
Jennifer M. Jones,
Deputy Executive Secretary.

[FR Doc. 2025-06759 Filed 4-18-25; 8:45 am]

BILLING CODE 6714-01-P